DEPARTMENT OF THE INTERIOR

Bureau of Land Management

[NV-930-5870-EU]

Notice of Realty Action Competitive Sale of Public Land, Washoe County, NV

AGENCY: Bureau of Land Management, Interior.

ACTION: Notice of realty action.

SUMMARY: A 30 acre public parcel of land located in the Pleasant Valley south of Reno, Washoe County, Nevada, has been examined and found suitable for sale utilizing competitive sale procedures.

DATES: Comments must be submitted by April 1, 2005. Bid deadline is 3 p.m. (PT) April 12, 2005.

ADDRESSES: Bureau of Land Management, Carson City Field Office, 5665 Morgan Mill Road, Carson City, NV 89706.

FOR FURTHER INFORMATION CONTACT: Information regarding the competitive sale instructions, procedures, documents, maps and materials to submit a bid can be obtained at the Carson City Field Office's Public Land Sales Hotline at (775) 885-6111, at http://www.nv.blm.gov/carson, or at the public reception desk at the above address from 7:30 a.m. to 4 p.m. Monday—Friday (except Federal holidays).

SUPPLEMENTARY INFORMATION: The following described parcel of public land is proposed for sale:

Mount Diablo Meridian, Nevada

T 17 N, R 20 E, Sec. 18, E½ NE¼ SW¼, NE¼ SE¼ SW¼ totaling 30 acres more or less.

The parcel is being offered through competitive sale pursuant to 43 CFR 2711.3-1. Authority for the sale is Section 203 and Section 209 of the Federal Land Policy and Management Act of October 21,1976 (43 U.S.C. 1701, 1713, 1719). This parcel of public land, south of Reno, Nevada, is being offered for sale through competitive sale sealed bid procedures at not less than the appraised fair market value (FMV) of $297,000. The land is not required for Federal purposes. The disposal (sale) of the parcel would serve the public benefit by making lands available for community expansion and private economic development. As such, these lands meet the criteria for sale under 43 CFR 2710.0-3(a)(2) and (3). The subject land is identified for disposal in the Carson City Consolidated Resource Management Plan adopted in May 2001. By Public Land Order No. 7491, dated July 5, 2001, the land was withdrawn from surface entry and mining, but not from sale, exchange or recreation and public purposes. An appraisal report has been prepared by a certified appraiser to establish the FMV of the parcel.

Patent (title document), will be issued with the following reservation:

A right-of-way thereon for ditches and canals constructed by authority of the United States, Act of August 30, 1890 (43 U.S.C. 945), and will be subject to valid existing rights and the following encumbrances of record:

Those rights for buried communication purposes which have been granted to Nevada Bell by Right-of-Way N-53654 under the Act of October 21, 1976 (Title V, 90 Stat. 2743).

Those rights for highway purposes which have been granted to Nevada Department of Transportation by Right-of-Way CC 018418 under the Act of November 9, 1921 (42 Stat. 212).

The land may also be subject to applications received prior to publication of this Notice if processing the application would have no adverse affect on the appraised fair market value (FMV).

Encumbrances of record, the appraisal, and other information are available for review 7:30 a.m. to 4 p.m., PT, Monday through Friday (except Federal holidays), at the Bureau of Land Management (BLM), Carson City Field Office, 5665 Morgan Mill Road, Carson City, NV 89701.

No warranty of any kind shall be given or implied as to the potential use of the land offered for sale. In the event of a sale, the unreserved mineral interests will be conveyed simultaneously with the sale of the land. The unreserved mineral interests have no known mineral value. Acceptance of the sale offer will constitute an application for conveyance of those unreserved mineral interests pursuant to Section 209 of the Federal Land Policy and Management Act of 1976. The purchaser will be required to pay a $50.00 non-refundable filing fee for conveyance of the available mineral interests with the final payment.

The purchaser/patentee, by accepting patent, agrees to indemnify, defend, and hold the United States harmless from any costs, damages, claims, causes of action, penalties, fines, liabilities, and judgments of any kind arising from the past, present or future acts or omissions of the patentee, its employees, agents, contractors, or lessees, or any third-party arising out of or in connection with the patentee's use and/or occupancy of the patented real property resulting in: (1) Violations of Federal, State, and local laws and regulations that are now or in the future become, applicable to the real property; (2) judgments, claims or demands of any kind assessed against the United States; (3) costs, expenses, or damages of any kind incurred by the United States; (4) releases or threatened releases of solid or hazardous waste(s) and/or hazardous substances(s), as defined by Federal or State environmental laws, off, on, into or under land, property, and other interests of the United States; (5) other activities by which solids or hazardous substances or wastes, as defined by Federal and State environmental laws are generated, released, stored, used, or otherwise disposed of on the patented real property, and any cleanup response, remedial action or other actions related in any manner to said solid or hazardous substances or wastes; or (6) natural resource damages as defined by Federal and State law. This covenant shall be construed as running with the patented real property and may be enforced by the United States in a court of competent jurisdiction.

Deadline for submission of sealed bids is 3 p.m. (PT) April 12, 2005. Bids must be for not less than the FMV of the parcel. Each sealed bid shall be accompanied by a certified check, money order, bank draft, or cashier's check made payable to the Bureau of Land Management for not less than 10 (ten) percent of the amount bid.

Bidders are to use regular size 10 business envelopes addressed to BLM at the address indicated above. All bidders are to print their name and return address in the upper left-hand corner of the envelope, and write the BLM Serial Number (N-77726) for the property in the lower front left-hand corner of the envelope.

The purchaser must remit the remainder of the purchase price (plus the $50.00 filing fee for conveyance of mineral interests) within 180 days from the date of the sealed bid opening. Final payment must be by certified check, postal money order, bank draft, cashiers check, or wire transfer payable to the Bureau of Land Management. Failure to pay the full price within the 180 days calendar days will disqualify the apparent high bidder and cause the entire bid deposit to be forfeited to the BLM. BLM offers no financing on the property being offered for sale. Upon the publication of this notice and until the completion of this sale, the BLM is no longer accepting land use applications affecting the parcel being offered for sale.

BLM in its sole discretion reserves the right to: (1) Reject any bid; (2) ask for supplemental bids in the case of identical bids; (3) make minor exceptions to procedures to resolve administrative or other conflicts; and (4) withdraw the property from sale or postpone the sale due to protests, appeals, litigation, administrative or other reasons.

If not sold, the parcel described above in this notice may be identified for sale at a later date without further legal notice.

Federal law requires bidders to be U.S. citizens 18 years of age or older, a corporation subject to the laws of any State or of the United States; a State, State instrumentality, or political subdivision authorized to hold property, or an entity including, but not limited to, associations or partnerships capable of holding property or interests therein under the laws of the State of Nevada.

To determine the appraised fair market value of the property, the BLM had to make a number of assumptions regarding the attributes and limitations of the lands and potential effects of local regulations and policies on potential future land uses. These assumptions may not be endorsed or approved by units of local government. Furthermore, no warranty of any kind shall be given or implied by the United States regarding the potential uses of the subject land, and conveyance of the land will not be on a contingency basis. It is the buyer's responsibility to be knowledgeable of the subject land and to be aware of all applicable local government policies and regulations that would affect the sale parcel. It is also the buyer's responsibility to be aware of existing or projected use of nearby properties. When conveyed out of Federal ownership, the land(s) will be subject to any applicable reviews and approvals by units of local government for proposed future uses, and any such reviews and approvals would be the buyer's responsibility. Any land lacking access from a public road or highway will be conveyed as such, and the future acquisition will be the responsibility of the buyer.

For complete details regarding the terms and conditions of the competitive sale interested parties and or bidders shall obtain and read carefully the Sealed Bid Terms and Conditions for this sale. For a period until April 1, 2005, interested parties may submit comments to the Carson City Field Office at the above address. Any comments are to be in letter format citing specific reasons for your objection and are to be addressed and mailed to Donald T. Hicks, Field Manager, Carson City Field Office, Bureau of Land Management, 5665 Morgan Mill Road, Carson City, NV 89701. Facsimiles, telephone calls, and e-mails are unacceptable means of notification. Any adverse comments will be reviewed by the State Director, who may sustain, vacate, or modify this realty action and issue a final determination. In the absence of timely filed objections this realty action will become the final determination of the Department of the Interior.

Dated: January 20, 2005.
Charles P. Pope,
Acting Manager, Carson City Field Office.

[FR Doc. 05-2932 Filed 2-10-05; 4:08 pm]

BILLING CODE 4310-HC-P